DEPARTMENT OF DEFENSE

Office of the Secretary

[Transmittal Nos. 13-30]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-30 with attached transmittal, and policy justification.

Dated: July 26, 2013.
Aaron Siegel,
Alternate OSD Federal Register Liaison Officer, Department of Defense.

BILLING CODE 5001-06-P

BILLING CODE 5001-06-C

Transmittal No. 13-30

Notice of Proposed Issuance of Letter of Offer Pursuant to Section 36(b)(1) of the Arms Export Control Act, as Amended

(i) Prospective Purchaser: Republic of Korea

(ii) Total Estimated Value:

Major Defense Equipment * | $438 million
Other | $ 14 million
TOTAL | $452 million
* As defined in Section 47(6) of the Arms Export Control Act.

(iii) Description and Quantity or Quantities of Articles or Services under Consideration for Purchase: 260 AIM-120C-7 Advanced Medium Range Air-to-Air Missiles (AMRAAM), containers, missile support and test equipment, provisioning, spare and repair parts, support equipment, personnel training and training equipment, publications and technical documentation, U.S. Government and contractor engineering and technical support, and other related elements of program support.

(iv) Military Department: Air Force (YAK).

(v) Prior Related Cases, if any: FMS case YAD-$22M-16Jan10.

(vi) Sales Commission, Fee, etc., Paid, Offered, or Agreed to be Paid: None.

(vii) Sensitivity of Technology Contained in the Defense Article or Defense Services Proposed to be Sold: None.

(viii) Date Report Delivered to Congress: 18 July 2013.

POLICY JUSTIFICATION

Republic of Korea—AIM-120C-7 Advanced Medium Range Air-to-Air Missiles

The Government of the Republic of Korea (ROK) has requested a possible sale of 260 AIM-120C-7 Advanced Medium Range Air-to-Air Missiles (AMRAAM), containers, missile support and test equipment, provisioning, spare and repair parts, support equipment, personnel training and training equipment, publications and technical documentation, U.S. Government and contractor engineering and technical support, and other related elements of program support. The estimated cost is $452 million.

This proposed sale will contribute to the foreign policy goals and national security objectives of the United States by meeting the legitimate security and defense needs of an ally and partner nation. The ROK continues to be an important force for peace, political stability, and economic progress in North East Asia.. The proposed sale will provide the ROK with a contingency stock of AMRAAM AIM-120C-7 missiles to be used on its KF-16 and F-15K aircraft.

The proposed sale will provide the ROK with a credible defense capability to deter aggression in the region and ensure interoperability with U.S. forces. Additionally, operational control (OPCON) will transfer from US Forces Korea/Combined Forces Command (USFK/CFC) to the ROK's Korea Command (KORCOM) in 2015. This acquisition will enhance the capabilities needed to support the OPCON transfer.

The proposed sale of this equipment and support will not alter the basic military balance in the region.

The principal contractor will be Raytheon Missile Systems Company in Tucson, Arizona. There are no known offset agreements proposed in connection with this potential sale.

Implementation of this proposed sale will require multiple trips to Korea involving U.S. Government and contractor representatives for technical reviews/support, program management, and training over a period of eight years. U.S. contractor representatives will be required in the ROK to conduct modification kit installation, testing, and training.

There will be no adverse impact on U.S. defense readiness as a result of this proposed sale.

[FR Doc. 2013-18453 Filed 7-31-13; 8:45 am]

BILLING CODE 5001-06-P